NATIONAL SCIENCE FOUNDATION

National Science Board

The National Science Board's ad hoc Committee on Honorary Awards, pursuant to NSF regulations (45 CFR part 614), the National Science Foundation Act, as amended (42 U.S.C. 1862n-5), and the Government in the Sunshine Act (5 U.S.C. 552b), hereby gives notice in regard to the scheduling of a meeting for the transaction of National Science Board business, as follows:

Date and Time: Monday, November 17, 2014 at 11:00 a.m. EST.

Subject Matter: Consideration of nominations for honorary awards.

Status: Closed.

This meeting will be held by teleconference originating at the National Science Board Office, National Science Foundation, 4201Wilson Blvd., Arlington, VA 22230.

Please refer to the National Science Board Web site (www.nsf.gov/nsb) for information or schedule updates, or contact: Nadine Lymn, National Science Foundation, 4201Wilson Blvd., Arlington, VA 22230. Telephone: (703) 292-7000.

Ann Bushmiller,
NSB Senior Legal Counsel.

[FR Doc. 2014-26806 Filed 11-12-14; 8:45 am]

BILLING CODE 7555-01-P